DEPARTMENT OF COMMERCE

National Oceanic and Atmospheric Administration

50 CFR Part 679

RIN 0648-BL42

Extension of Public Comment Period for Amendment 123 to the Fishery Management Plan for Groundfish of the Bering Sea and Aleutian Islands Management Area (BSAI FMP); Bering Sea and Aleutian Islands Halibut Abundance-Based Management of Amendment 80 Prohibited Species Catch Limit

AGENCY: National Marine Fisheries Service (NMFS), National Oceanic and Atmospheric Administration (NOAA), Department of Commerce (DOC).

ACTION: Notice; extension of public comment period.

SUMMARY: On November 9, 2022, the National Marine Fisheries Service published a Notice of Availability and request for comments on Amendment 123 to the Fishery Management Plan for Groundfish of the Bering Sea and Aleutian Islands Management Area (BSAI FMP), but inadvertently did not include the supporting Amendment text. With this notice, NMFS is extending the public comment period by 60 days to February 7, 2023, to afford the public with additional time to provide comments on Amendment 123.

DATES: Comments on Amendment 123 and supporting documents must be received by February 7, 2023 as specified under ADDRESSES.

ADDRESSES: You may submit comments, identified by NOAA-NMFS-2022-0088, by any of the following methods:

• Electronic Submission: Submit all electronic public comments via the Federal eRulemaking Portal. Go to https://www.regulations.gov and enter NOAA-NMFS-2022-0088 in the Search box. Click the “Comment Now!” icon, complete the required fields, and enter or attach your comments.

• Mail: Submit written comments to Josh Keaton, Acting Assistant Regional Administrator, Sustainable Fisheries Division, Alaska Region NMFS, Attn: Records Office. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 123 and the final Environmental Impact Statement/Regulatory Impact Review (collectively referred to as the “Analysis”) prepared for this proposed rule may be obtained from https://www.regulations.gov. The Analysis may also be found on the Alaska Regional Office website at: https://www.fisheries.noaa.gov/resource/document/final-environmental-impact-statement-bering-sea-and-aleutian-islands-bsai-halibut.

FOR FURTHER INFORMATION CONTACT: Bridget Mansfield, 907-586-7228.

SUPPLEMENTARY INFORMATION: On November 9, 2022, the National Marine Fisheries Service published a Notice of Availability (NOA) and request for comments on Amendment 123 to the Fishery Management Plan for Groundfish of the Bering Sea and Aleutian Islands Management Area (BSAI FMP) (87 FR 67665, November 9, 2022). After inquiries from the public, NMFS realized that a supporting document containing the revised BSAI FMP text was not made available for public review with the November 9, 2022 publication of the NOA. The BSAI FMP revised text was posted to regulations.gov on December 2, 2022. With this notification, NMFS is extending the comment period on the FMP Amendment to provide 60 days from the date of publication of this notification in the Federal Register.

NMFS is soliciting public comments on proposed Amendment 123 through the end of the comment period (see DATES). NMFS is separately seeking public comment on a proposed rule that would implement Amendment 123.

Respondents do not need to submit the same comments on Amendment 123 and the proposed rule. All relevant written comments received by the end of the applicable comment period, whether specifically directed to the BSAI FMP amendment or the proposed rule will be considered by NMFS in the approval/disapproval decision for Amendments 123 and addressed in the response to comments in the final rule. Comments received after the end of the applicable comment period will not be considered in the approval/disapproval decision on Amendment 123. To be considered, comments must be received, not just postmarked or otherwise transmitted, by the last day of the comment period (see DATES).

Authority: 16 U.S.C. 1801 et seq.

Dated: December 6, 2022.
Jennifer M. Wallace,
Acting Director, Office of Sustainable Fisheries, National Marine Fisheries Service.

[FR Doc. 2022-26828 Filed 12-8-22; 8:45 am]

BILLING CODE 3510-22-P